DEPARTMENT OF TRANSPORTATION

Office of the Secretary

49 CFR Part 40

Procedures for Transportation Workplace Drug and Alcohol Testing Programs

CFR Correction

In Title 49 of the Code of Federal Regulations, Parts 1 to 99, revised as of October 1, 2001, on page 593, § 40.45 is corrected by revising paragraph (a) to read as follows:

§ 40.45 What form is used to document a DOT urine collection?

(a) The Federal Drug Testing Custody and Control Form (CCF) must be used to document every urine collection required by the DOT drug testing program. The CCF must be a five-part carbonless manifold form. You may view this form on the Department's web site (http://www.dot.gov/ost/dapc) or the HHS web site (http://www.workplace.samhsa.gov).

* * * * *

[FR Doc. 02-55503 Filed 1-30-02; 8:45 am]

BILLING CODE 1505-01-D